DEPARTMENT OF COMMERCE

National Oceanic and Atmospheric Administration

RIN 0648-XC949

Western Pacific Fishery Management Council (WPFMC) Public Meetings

AGENCY: National Marine Fisheries Service (NMFS), National Oceanic and Atmospheric Administration (NOAA), Commerce.

ACTION: Notice of public informational scoping meetings on the Management of Bottomfish Fishery Resources within the Exclusive Economic Zone of the Mariana Islands.

SUMMARY: The Western Pacific Fisheries Management Council (Council) will convene public informational scoping meetings in Guam and Commonwealth of the Northern Mariana Islands (CNMI) to solicit comments on the management of the bottomfish fishery within the EEZ of the Mariana Islands. The scoping meeting will, among other things, describe the existing federal management regime for bottomfish species, examine the current performance of the fishery and consider the need for potential regulatory changes.

DATES: Public informational scoping meetings will be held in CNMI on November 18, 2013 and in Guam November 19, 2013. See SUPPLEMENTARY INFORMATION for specific dates, times and locations.

ADDRESSES: Written comments on this issue may be sent to Kitty M. Simonds, Executive Director, Western Pacific Fishery Management Council, 1164 Bishop St., Suite 1400, Honolulu, HI 96813.

Comments may be sent to the Council via facsimile (fax) at (808) 522-8226.

FOR FURTHER INFORMATION CONTACT: Kitty M. Simonds, Executive Director, WPFMC, (808) 522-8220.

SUPPLEMENTARY INFORMATION: Dates, Times, and Locations for Public Informational Scoping Meetings

1. Saipan, CNMI—Monday, November 18, 2013, from 6 p.m.-9 p.m. at the Northern Marianas College (NMC) Classroom D-1, and via video conference in Rota, CNMI at the NMC Video Teleconference (VTC) Room A2, and in Tinian, CNMI at the NMC VTC Room C.

2. Tumon, Guam—Tuesday, November 19, 2013, from 6 p.m.-9 p.m. at the Guam Hilton Hotel.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 28, 2013.
Tracey L. Thompson,
Acting Deputy Director, Office of Sustainable Fisheries, National Marine Fisheries Service.

[FR Doc. 2013-25946 Filed 10-30-13; 8:45 am]

BILLING CODE 3510-22-P